DEPARTMENT OF AGRICULTURE

Forest Service

Ravalli County Resource Advisory Committee

AGENCY: Forest Service, USDA.

ACTION: Notice of meeting.

SUMMARY: The Ravalli County Resource Advisory Committee will be meeting to discuss 2004 projects and the Fred Burr 80 project, receive reports on Forest Plan Revision community groups, discuss public outreach methods, and hold a short public forum (question and answer session). The meeting is being held pursuant to the authorities in the Federal Advisory Committee Act (Pub. L. 92-463) and under the Secure Rural Schools and Community Self-Determination Act of 2000 (Pub. L. 106-393). The meeting is open to the public.

DATES: The meeting will be held on April 20, 2004, 6:30 p.m.

ADDRESSES: The meeting will be held at the Supervisor's Office of the Bitterroot National Forest, 1801 N. 1st Street, Hamilton, Montana. Send written comments to Jeanne Higgins, District Ranger, Stevensville Ranger District, 88 Main Street, Stevensville, MT 59870, by facsimile (406) 777-7423, or electronically to jmhiggins@fs.fed.us.

FOR FURTHER INFORMATION CONTACT: Jeanne Higgins, Stevensville District Ranger and Designated Federal Officer, Phone: (406) 777-5461.

Dated: April 9, 2004.
David T. Bull,
Forest Supervisor.

[FR Doc. 04-8752 Filed 4-16-04; 8:45 am]

BILLING CODE 3410-11-M